DEPARTMENT OF HOMELAND SECURITY

Coast Guard

33 CFR Part 100

[Docket No. USCG-2017-0134]

Special Local Regulations; Conch Republic Navy Parade and Battle, Key West, FL

AGENCY: Coast Guard, DHS.

ACTION: Notice of enforcement of regulation.

SUMMARY: The Coast Guard will enforce the special local regulations for the Conch Republic Navy Parade and Battle in Key West, Florida, from 6:30 p.m. until 8:00 p.m. on April 28, 2017. Our regulation for Recurring Marine Events in Captain of the Port Key West Zone identifies the regulated area for this event. During the enforcement period no person or vessel may enter into, transit through, anchor in, or remain within the regulated area without approval from the Captain of the Port Key West or a designated representative.

DATES: The regulations in 33 CFR 100.701 Table 1(c)(7) will be enforced from 6:30 p.m. until 8:00 p.m. on April 28, 2017.

FOR FURTHER INFORMATION CONTACT: If you have questions on this notice, call or email Lieutenant Scott Ledee, Sector Key West Waterways Management Department, Coast Guard; telephone (305) 292-8768, email Scott.G.Ledee@uscg.mil.

SUPPLEMENTARY INFORMATION: The Coast Guard will enforce the special local regulations in 33 CFR 100.701 from 6:30 p.m. until 8:00 p.m. on April 28, 2017, for the annual Conch Republic Navy Parade and Battle in Key West, Florida. This action is being taken to provide for the safety of life on the navigable waters of the Key West Harbor during the simulated battle event. Our regulation for Recurring Marine Events in Captain of the Port Key West Zone, § 100.701, Table 1, item (c)(7), specifies the location of the regulated area for the reenactment of the battle within the Key West Harbor.

During the enforcement period, no person or vessel may enter, transit through, anchor within, or remain within the established regulated areas without approval from the Captain of the Port Key West or designated representative. The Coast Guard may be assisted by other Federal, State, or local law enforcement agencies in enforcing this regulation.

This notice of enforcement is issued under authority of 33 CFR 100.701 and 5 U.S.C. 552(a). The Coast Guard will provide notice of the regulated area by Local Notice to Mariners, Broadcast Notice to Mariners, and on-scene designated representatives. If the Captain of the Port Key West determines that the regulated area need not be enforced for the full duration stated in this publication, he or she may use a Broadcast Notice to Mariners to grant general permission to enter the regulated area.

Dated: April 13, 2017.
J.A. Janszen,
Captain, U.S. Coast Guard, Captain of the Port Key West.

[FR Doc. 2017-08036 Filed 4-20-17; 8:45 am]

BILLING CODE 9110-04-P